DEPARTMENT OF ENERGY

Federal Energy Regulatory Commission

[Project Nos. 2492-010, 2618-020 and -021, and 2660-024 and -025]

Domtar Maine Corporation and Domtar Maine LLC; Notice of Applications for Transfer of Licenses, Substitution of Relicense Applicant, and Soliciting Comments, Motions To Intervene, and Protests

July 17, 2009.

On June 9, 2009, Domtar Maine Corporation (Transferor) and Domtar Maine LLC (Transferee) filed a joint application for: (1) The transfer of licenses of the Vanceboro Project No. 2492, located on the East Branch of the St. Croix River in Washington County, Maine and New Brunswick, Canada, the West Branch Project No. 2618, located on the West Branch of the St. Croix River in Hancock, Penobscot, and Washington Counties, Maine, and the Forest City Project No. 2660, located on the East Branch of the St. Croix River in Washington and Aroostock Counties, Maine, and New Brunswick, Canada, and (2) the substitution of the Transferee for the Transferor as the applicant in the pending applications for new licenses filed by the Transferor in Project Nos. 2618-020 and 2660-024.

The transfer application was filed within five years of the expiration of the license for Project Nos. 2618 and 2660, which are the subject of pending relicensing applications. In Hydroelectric Relicensing Regulations Under the Federal Power Act (54 FR 23756 FERC Stats. and Regs., Regs. Preambles 1986-1990 30,854 at p. 31,437), the Commission declined to forbid all license transfers during the last five years of an existing license, and instead indicated that it would scrutinize all such transfer requests to determine if the transfer's primary purpose was to give the transferee an advantage in relicensing.

Applicant Contact: C. Scott Beal, Domtar Maine LLC, 144 Maine Street, Baileyville, ME 04694, phone (207) 427-4004.

FERC Contact: Robert Bell, (202) 502-6062.

Deadline for filing comments, protests, and motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of the Commission's Web site at http://www.ferc.gov/docs-filing/elibrary.asp. Enter the docket number (P-2492-010, 2618-021, and 2660-025) in the docket number field to access the document. For assistance, call toll-free 1-866-208-3372.

Kimberly D. Bose,
Secretary.

[FR Doc. E9-17694 Filed 7-23-09; 8:45 am]

BILLING CODE 6717-01-P